INTERNATIONAL TRADE COMMISSION

Submission for OMB Review; Comment Request

AGENCY: United States International Trade Commission.

ACTION: Agency proposal for the collection of information submitted to the Office of Management and Budget (OMB) for review; comment request.

SUMMARY: In accordance with the provisions of the Paperwork Reduction Act (44 U.S.C. Chapter 35), the Commission has submitted a proposal for the collection of information to OMB for approval. The proposed information collection is an user survey that solicits feedback on the investigative procedures used by the Commission in its import injury investigations. Comments concerning the proposed user survey are requested in accordance with the Paperwork Reduction Act of 1995. The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

DATES: Comments must be submitted to OMB within 30 days of the date this notice appears in the Federal Register.

ADDRESSES: Comments should be sent to David Rostker, OMB Desk Officer, Room 10202, New Executive Office Building, Washington, DC 20503.

FOR FURTHER INFORMATION CONTACT: Copies of the proposed information collection proposal can be obtained from Debra Baker, Office of Investigations, U.S. International Trade Commission (telephone no.—202-205-3180; e-mail—Debra.Baker@usitc.gov). General information concerning the Commission may also be obtained by accessing its Internet server (http://www.usitc.gov).

SUPPLEMENTARY INFORMATION: OMB Number: 3117-0192 (reinstatement without change).

Title: United States International Trade Commission Import Injury Investigation User Survey.

Type of Review: Regular submission.

Respondents: Law firms and economic consulting groups.

Estimated Number of Respondents: 50.

Estimated Time Per Response: 1 hour.

Estimated Total Annual Burden Hours: 50 hours.

Needs and Uses: The proposed information collection seeks to gather feedback to allow the Commission to ensure that its procedures for its import injury investigations are fair and are equitably implemented. The user survey asks if the Commission's rules and other written guidance make clear to participants what the Commission expects of them procedurally in an investigation; if there are area(s) where additional guidance would be of benefit to their participation in investigations; if the Commission personnel responded to procedural inquiries in a helpful way; if their access to information collected by/submitted to the Commission was satisfactory; and if they have any other comments or recommended improvements.

Issued: November 9, 2005.
By order of the Commission.
Marilyn R. Abbott,
Secretary to the Commission.

[FR Doc. 05-22653 Filed 11-14-05; 8:45 am]

BILLING CODE 7020-02-P